DEPARTMENT OF DEFENSE

Department of the Army; Corps of Engineers

Intent To Prepare a Draft Environmental Impact Statement (DEIS) for Future 404 Permit Actions for the Newhall Ranch Specific Plan and Associated Facilities along Portions of the Santa Clara River and its Side Drainages, Los Angeles County, CA

AGENCY: U.S. Army Corps of Engineers, DoD.

ACTION: Notice of intent.

SUMMARY: Pursuant to Section 102(2)(c) of the National Environmental Policy Act of 1969 (NEPA) as implemented by the regulations of the Council on Environmental Quality (CEQ), 40 CFR 1500-1508, the Corps of Engineers announces its intent to prepare a Draft Environmental Impact Statement (DEIS) to address proposed future 404 permit activities associated with the phased development of the Newhall Ranch Specific Plan, and associated Water Reclamination Plant, along a portion of the Santa Clara River, Los Angeles County, California. To eliminate duplication of paperwork, the Corps of Engineers intends on preparing a joint DEIS and Draft Environmental Impact Report (DEIR) pursuant to the California Environmental Quality Act prepared by the California Department of Fish and Game per 40 CFR 1506.2 and 1506.4.

FOR FURTHER INFORMATION CONTACT: Mr. Bruce Henderson, U.S. Army Corps of Engineers, Attention: Regulatory Branch, 2151 Alessandro Drive, Suite 255, Ventura, California 93001, phone: (805) 641-1128, e-mail: bhenderson@spl.usace.army.mil

SUPPLEMENTARY INFORMATION:

1. Backgound

The Newhall Ranch Project is located in nothern Los Angeles County and encompasses approximately 12,000 acres. The Santa Clara River and State Route 126 traverse the northern portion of the Specific Plan area. The river extends approximately 5.5 miles east to west across the site. In March 1999, the Los Angeles County Board of Supervisors approved the Specific Plan which establishes the general plan and zoning designations necessary to develop the site with residential, commercial, and mixed uses over the next 20 to 30 years. The Newhall Ranch Specific Plan also includes a Water Reclamation Plant at the western edge of the project area. Individual projects, such as residential, commercial, and industrial developments, roadways, and other public facilities would be developed over time in accordance with the development boundaries and guidelines in the approved Specific Plan. Many of these developments would require work in and near the Santa Clara River and its side drainages (“waters of the United States”).

The Newhall Ranch Company would develop most of the above facilities. However, other entities could construct some of these facilities using the approvals or set of approvals issued to The Newhall Ranch Company. The proposed 404 permit would also include routine maintenance activities to be carried out by Los Angeles County Department of Public Works using the 404 permit issued to The Newhall Ranch Company. Any party utilizing a 404 permit issued to The Newhall Company would be bound by the same conditions in the 404 permit.

2. Proposed Action

The project proponent and landowner, The Newhall Ranch Company, has requested a long-term 404 permit from the Corps of Engineers. The project to be addressed in the EIS consists of those facilities associated with the Newhall Ranch Specific Plan that would require a 404 permit including the following:

• Bank protection comprised of buried soil cement or buried riprap with native vegetation planted in the overlying soil in areas proposed for land development, and grouted riprap and gunite placed near bridge abutments;

• Two new bridges constructed across the Santa Clara River at Potrero Valley Road and Long Canyon Road;

• Modifications of several side drainages (i.e. San Martinez Grande, Chiquito, Potrero, Long, and Middle canyons) for drainage and flood control purposes (larger drainages noted above are proposed to be modified and reconstructed as open soft-bottom channels with grade control structures; buried storm drains are proposed for smaller drainages with peak flows of less than 2,000 cfs);

• Two wastewater lines placed across the river at Potrero Canyon and upstream of Long Canyon Road;

• Potentially other utility line crossings for water, oil, and gas lines;

• Numerous storm drain outlets, most of which are anticipated to empty into water quality control facilities prior to discharging to the river;

• Several bridges or drainage facilities associated with the Magic Mountain Parkway and Valencia Boulevard extensions;

• Bank protection associated with the Water Reclamation Plant;

• Various trails and observation platforms for recreational, educational, and wildlife viewing purposes; and

• Routine maintenance of the above flood control facilities by removal of sediment or vegetation to preserve hydraulic design capacity and protect property.

3. Scope of Analysis

The DEIS will be a project-level document which addresses a number of interrelated actions over a specific geographic area that (1) would occur as logical parts in the chain of contemplated actions, and (2) would be implemented under the same authorizing statutory or regulatory authorities. The information in the EIS will be sufficient for the Corps to make a decision on the issuance of a long-term 404 permit for the Newhall Ranch Specific Plan.

The document will be a joint Federal and state document. The California Department of Fish and Game (CDFG) will prepare an Environmental Impact Report (EIR) in accordance with the California Environmental Quality Act for the same project. The Corps and CDFG will work cooperatively to prepare a joint DEIS/DEIR document, and to coordinate the public noticing and hearing processes under Federal and state laws.

The impact analysis will follow the directives in 33 CFR 325 which requires that it be limited to the impacts of the specific activities requiring a 404 permit and only those portions of the project outside of “waters of the United States” over which the Corps has sufficient control and responsibility to warrant Federal review. The Corps will extend the geographic scope of the environmental analysis beyond the boundaries of “waters of the United States” in certain areas to address indirect and cumulative impacts of the regulated activities, and to address connected actions pursuant to NEPA guidelines (40 CFR 1508(a)(1)). In these upland areas, the Corps will evaluate impacts to the environment and identify feasible and reasonable mitigation measures and the appropriate state or local agencies with authority to implement these measures if they are outside the authority of the Corps. In evaluating impacts to areas and resources outside the Corps' jurisdiction, the Corps will consider the information and conclusions from the Final Program EIR for the Specific Plan prepared by Los Angeles County Department of Regional Planning. However, the Corps will exercise its independent expertise and judgement in addressing indirect and cumulative impacts to upland areas due to issuance of the proposed 404 permit.

4. Alternatives

Various alternatives will be addressed in the EIS that would avoid or lessen any significant impacts associated with the proposed facilities, and/or that would reduce impacts to the aquatic environment, while still meeting the overall project purpose and need. The applicant has identified the project purpose and need as providing facilities for drainage, flood control, transportation, water and wastewater treatment, and utilities, as well as maintenance activities necessary to implement the approved Specific Plan. Alternatives to be considered include modifications (e.g., size, location, etc.) to the proposed facilities, or alternative designs for these facilities. Alternatives will focus on alternative methods to achieve the required flood control, river crossing, and drainage within the context of the Specific Plan. Specific alternatives will be developed after public scoping is completed, but will include the following types of alternatives:

• Alternative bridge locations or designs including changes in the precise alignments of the proposed bridges within specified corridors across the river, and the use of alternative bridge pier and embankment designs to reduce impacts to riparian resources.

• Alternative bank protection designs including use of environmental (biotechnical) or non-traditional bank protection methods, such as geotextiles.

• Complete avoidance of encroachment where bank protection would not be placed within the banks and channel of the mainstem of the Santa Clara River and flood control improvements would not be implemented along side drainages.

• Reduced encroachment along the mainstem where the proposed encroachment along the mainstem of the Santa Clara River for bank protection would be reduced by relocating certain reaches of bank protection to upland areas, outside the banks of the Santa Clara River.

• Reduced encroachment along side drainages where the proposed number of side drainages converted to storm drains or uniform flood control channels would be reduced.

5. Scoping Process

Federal, State, and local agencies and other interested private citizens and organizations are encouraged to send their written comments to Mr. Bruce Henderson at the address provided above. This scoping comment period will expire 30 days from the date of this notice.

Significant issues to be analyzed in depth in the DEIS include:

• Hydrology, flooding, and sedimentation—a description of the potential impacts of bank protection and bridges; analysis of the change in river and tributary hydrology and hydraulics, particularly related to flood frequency and location, peak discharge, bank and channel bed erosion, water velocity, scouring potential at bridges, and alteration of sediment deposition patterns.

• Water quality—potential effects on quality of surface and ground water due to construction activities in the watercourses and due to urban stormwater runoff associated with adjacent upland development. The effect of any discharges of treated wastewater from the proposed Water Reclamation Plant on surface and ground water will also be addressed.

• Wetlands and riparian vegetation—potential effect on the nature and amount of wetland and riparian vegetation within the watercourses, and potential changes in successional patterns in the watercourses due to altered hydrology and sedimentation patterns.

• Threatened and endangered species—potential adverse impacts on listed and other sensitive species including, but not limited to, the unarmored three-spine stickleback, arroyo chub, Santa Ana sucker, least Bell's vireo, southwestern willow flycatcher, and arroyo toad due to habitat loss, changes in hydrology, and/or human encroachment. A Section 7 endangered species consultation will be conducted with the U.S. Fish and Wildlife Service for potential impacts to listed species. Impacts to designated critical habitat for the least Bell's vireo will also be addressed in the consultation.

• Fish and wildlife—in general, potential changes in populations of the native fauna due to reduction or alteration of the wetland and adjacent upland habitats along the Santa Clara River and its side drainages.

• Air quality—potential impact of emissions associated with the construction of project facilities on local and regional air quality, and conformity with the South Coast Air Quality Management Plan.

• Cultural Resources—potential impacts on archeological, ethnographic, paleontologic, and historic resources.

• Visual Resources—potential changes in the natural and man-made visual settings due to new bridges, bank protection, and urban development.

• Cumulative impacts—combined impacts of the proposed project and other ongoing and future projects affecting the Santa Clara River within both Los Angeles and Ventura counties, in relation to the Newhall Ranch Specific Plan.

Coordination will be undertaken with the U.S. Environmental Protection Agency, National Marine Fisheries Service, U.S. Fish and Wildlife Service, California Department of Fish and Game, California Regional Water Quality Control Board, and the California Coastal Commission.

6. Scoping Meetings

A public scoping meeting to receive input on the scope of the EIS will be conducted on February 9, 2000 at 7:00 p.m. at the Valencia High School Auditorium, located at 27810 North Dickason Drive, Valencia, California. Participation in the scoping meeting by Federal, state, and local agencies, and other interested private citizens and organizations is encouraged.

7. DEIS Schedule

A Draft EIS is expected to be issued for public review in summer of 2000 and a Final EIS to be issued in late 2000.

Gregory D. Showalter
Army Federal Register Liaison Officer.

[FR Doc. 00-1825 Filed 1-25-00; 8:45 am]

BILLING CODE 3710-KF-P